DEPARTMENT OF HEALTH AND HUMAN SERVICES

National Institutes of Health

Center for Scientific Review; Amended Notice of Meeting

Notice is hereby given of a change in the meeting of the Cognitive Neuroscience Study Section, June 5, 2007, 8 a.m. to June 6, 2007, 5 p.m. DoubleTree Hotel, 8120 Wisconsin Avenue, Bethesda, MD 20814 which was published in the Federal Register on April 5, 2007, 72 FR 16805-16806.

The meeting will be held one day only on June 5, 2007. The meeting time and location remains the same. The meeting is closed to the public.

Dated: May 8, 2007.
Jennifer Spaeth,
Director, Office of Federal Advisory Committee Policy.

[FR Doc. 07-2437 Filed 5-16-07; 8:45 am]

BILLING CODE 4140-01-M